DEPARTMENT OF ENERGY

Federal Energy Regulatory Commission

[Docket No. IC24-13-000]

Commission Information Collection Activities (FERC-716); Comment Request; Extension

AGENCY: Federal Energy Regulatory Commission.

ACTION: Notice of information collection and request for comments.

SUMMARY: In compliance with the requirements of the Paperwork Reduction Act of 1995, the Federal Energy Regulatory Commission (Commission or FERC) is soliciting public comment on the currently approved information collection FERC-716, Good Faith Requests for Transmission Service and Good Faith Responses by Transmitting Utilities, OMB Control Number 1902-0170.

DATES: Comments on the collections of information are due [INSERT DATE 60 days after date of publication in the Federal Register].

ADDRESSES: You may submit copies of your comments (identified by Docket No. IC24-13-000 and FERC-0170) by one of the following methods:

Electronic filing through http://www.ferc.gov, is preferred.

• Electronic Filing: Documents must be filed in acceptable native applications and print-to-PDF, but not in scanned or picture format.

• For those unable to file electronically, comments may be filed by USPS mail or by other delivery services:

○ Mail via U.S. Postal Service Only: Federal Energy Regulatory Commission, Secretary of the Commission, 888 First Street NE, Washington, DC 20426.

○ All other delivery services: Federal Energy Regulatory Commission, Secretary of the Commission, 12225 Wilkins Avenue, Rockville, MD 20852.

Instructions: All submissions must be formatted and filed in accordance with submission guidelines at: http://www.ferc.gov. For user assistance, contact FERC Online Support by email at ferconlinesupport@ferc.gov, or by phone at (866) 208-3676 (toll-free).

Docket: Users interested in receiving automatic notification of activity in this docket or in viewing/downloading comments and issuances in this docket may do so at http://www.ferc.gov.

FOR FURTHER INFORMATION CONTACT: Jean Sonneman may be reached by email at DataClearance@FERC.gov, telephone at (202) 502-6362.

SUPPLEMENTARY INFORMATION:

Title: FERC-716, Good Faith Requests for Transmission Service and Good Faith Responses by Transmitting Utilities.

OMB Control No.: 1902-0170.

Type of Request: Three-year extension of the FERC-716 information collection requirements with no changes to the current reporting requirements.

Abstract: This information collection pertains to negotiations between a generator of electricity and a transmitting utility under sections 211 through section 213 ¹ of the Federal Power Act (FPA).

¹ 16 U.S.C. 824j, 824k, and 824l.

Section 211 of the FPA authorizes any electric utility, Federal power marketing agency, or any other person generating electric energy for sale or resale to apply to the Commission for an order requiring a transmitting utility to provide transmission services (including any enlargement of transmission capacity necessary to provide such services) to the applicant. The Commission may issue such order if it finds that such an order meets the requirements of section 212,² and would otherwise be in the public interest.

² Section 212 requires that, subject to appropriate terms and conditions and just and reasonable rates, access to the electric transmission system for the purposes of wholesale transactions is made widely available.

Section 213 provides that whenever an application for such an order constitutes a “good faith request” for service, the transmitting utility must provide the applicant with a “detailed written explanation, with specific reference to the facts and circumstances of the request, stating (1) the transmitting utility's basis for the proposed rates, charges, terms, and conditions for such services, and (2) its analysis of any physical or other constraints affecting the provision of such services.”

The Commission's regulation at 18 CFR 2.20 identifies 12 components of a good faith request for transmission and 5 components of a reply to a good faith request. The regulation at 18 CFR 2.20(a)(2) provides that the Commission may issue an order requiring a transmitting utility to provide transmission services (including any enlargement of transmission capacity necessary to provide such services) only if: (1) an applicant has made a request for transmission services to the transmitting utility that would be the subject of such order at least 60 days prior to its filing of an application for such order, and (2) the applicant has, pursuant to section 213(a) of the FPA, made a good faith request to a transmitting utility to provide wholesale transmission services and requests specific rates and charges, and other terms and conditions.

Type of Respondents: Transmission Requestors and Transmitting Utilities.

Estimate of Annual Burden: The Commission estimates the average annual burden ³ and cost ⁴ for this information collection as follows.

³ Burden is defined as the total time, effort, or financial resources expended by persons to generate, maintain, retain, or disclose or provide information to or for a Federal agency. For further explanation of what is included in the information collections burden, reference 5 CFR 1320.3.

⁴ The Commission staff estimates that the average respondent for FERC-576 is similarly situated to the Commission, in terms of salary plus benefits. Based on FERC's current annual average of $207,786 (for salary plus benefits), the average hourly cost is $100/hour.

Types of responses | Number of respondents | Annual number of responses per respondent | Total number of responses | Average burden hrs. & cost ($) per response | Total annual burden hrs. & total annual cost | Cost per respondent ($)
| (1) | (2) | (1) * (2) = (3) | (4) | (3) * (4) = (5) | (5) ÷ (1)
Information exchange between parties | 6 | 1 | 6 | 100 hrs.; $10,000 | 600 hrs.; $60,000 | $10,000
Application submitted to FERC if parties' negotiations are unsuccessful | 6 | 1 | 6 | 2.5 hrs.; $250.00 | 15 hrs.; $1,500 | 250
Totals |  |  |  |  | 615 hrs.; $61,500 |

Comments: Comments are invited on: (1) whether the collections of information is necessary for the proper performance of the functions of the Commission, including whether the information will have practical utility; (2) the accuracy of the agency's estimate of the burden and cost of the collections of information, including the validity of the methodology and assumptions used; (3) ways to enhance the quality, utility and clarity of the information collections; and (4) ways to minimize the burden of the collections of information on those who are to respond, including the use of automated collection techniques or other forms of information technology.

Dated: March 5, 2024.
Debbie-Anne A. Reese,
Acting Secretary.

[FR Doc. 2024-05125 Filed 3-8-24; 8:45 am]

BILLING CODE 6717-01-P